DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (last amended at Federal Register, Vol. 76, No. 203, pp. 65197-65199, dated October 20, 2011) is amended to change the organizational title from the Office of Clinical Standards and Quality (OCSQ) to the Center for Clinical Standards and Quality. The organizational title change reflects the increasing breadth and importance of quality, patient safety, evidence-based coverage, and value-based purchasing programs. The administrative code is not changed and remains the same.

Part F., Section FC. 10 (Organization) is revised as follows:

Office of the Administrator (FC)

Office of Equal Opportunity and Civil Rights (FCA)

Office of Legislation (FCC)

Office of the Actuary (FCE)

Office of Strategic Operations and Regulatory Affairs (FCF)

Center for Clinical Standards and Quality (FCG)

Center for Medicare (FCH)

Center for Medicaid and CHIP Services (FCJ)

Center for Strategic Planning (FCK)

Center for Program Integrity (FCL)

Chief Operating Officer (FCM)

Office of Minority Health (FCN)

Center for Medicare and Medicaid Innovation (FCP)

Federal Coordinated Health Care Office (FCQ)

Center for Consumer Information and Insurance Oversight (FCR)

Office of Public Engagement (FCS)

Office of Communications (FCT)

Authority: 44 U.S.C. 3101)

Dated: July 11, 2012.
Marilyn Tavenner,
Acting Administrator and Chief Operating Officer, Centers for Medicare & Medicaid Services.

[FR Doc. 2012-17782 Filed 7-19-12; 8:45 am]

BILLING CODE 4120-01-P